DEPARTMENT OF HOMELAND SECURITY

Federal Emergency Management Agency

[Docket ID FEMA-2014-0002; Internal Agency Docket No. FEMA-B-1443]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 2, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1443, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: October 9, 2014.
Roy E. Wright,
Deputy Associate Administrator for Mitigation, Department of Homeland Security, Federal Emergency Management Agency.

Community | Community map repository address
Dona Ana County, New Mexico, and Incorporated Areas
Maps Available for Inspection Online at: http://www.fema.gov/preliminaryfloodhazarddata
City of Anthony | City Hall, 824 Anthony Drive, Anthony, NM 88021.
City of Las Cruces | City Hall, 700 North Main Street, Las Cruces, NM 88004.
City of Sunland Park | City Hall, 1000 McNutt Road, Suite A, Sunland Park, NM 88063.
Town of Mesilla | Town Hall, 2231 Avenida de Mesilla, Mesilla, NM 88046.
Unincorporated Areas of Dona Ana County | Dona Ana County Office of the Flood Commission, 845 North Motel Boulevard, Las Cruces, NM 88007.
Village of Hatch | Village Hall, 133 North Franklin Street, Hatch, NM 87937.
Armstrong County, Pennsylvania (All Jurisdictions)
Maps Available for Inspection Online at: http://www.fema.gov/preliminaryfloodhazarddata
Borough of Apollo | Borough Municipal Office, 616 First Street, Apollo, PA 15613.
Borough of Applewold | Applewold Borough Office, 8 Hickory Street, Kittanning, PA 16201.
Borough of Atwood | Atwood Borough Hall, 225 Atwood Sugar Run Road, Creekside, PA 15732.
Borough of Dayton | Borough Office, 207 Mechanic Street, Dayton, PA 16222.
Borough of Ford City | Borough Municipal Building, 1000 4th Avenue, Ford City, PA 16226.
Borough of Freeport | Borough Building, 414 Market Street, Freeport, PA 16229.
Borough of Kittanning | Borough Building, 300 South McKean Street, Kittanning, PA 16201.
Borough of Leechburg | Borough Office, 260 Market Street, Leechburg, PA 15656.
Borough of Manorville | Borough Building, 600 Center Lane, Manorville, PA 16238.
Borough of North Apollo | Borough Building, 1421 Leonard Avenue, North Apollo, PA 15673.
Borough of Rural Valley | Borough Building, 300 Parkwood Drive, Rural Valley, PA 16249.
Borough of South Bethlehem | South Bethlehem Borough Building, 217 West Broad Street, New Bethlehem, PA 16242.
Borough of Worthington | Borough Municipal Building, 206 Church Street, Worthington, PA 16262.
City of Parker | City Hall, 210 North Cooper Avenue, Parker, PA 16049.
Township of Bethel | Bethel Township Hall, 3218 Ridge Road, Ford City, PA 16226.
Township of Boggs | Boggs Township Building, 292 Mountain Trails Road, Templeton, PA 16259.
Township of Brady's Bend | Brady's Bend Township Municipal Building, 1004 State Route 68, East Brady, PA 16028.
Township of Burrell | Burrell Township Municipal Building, 110 Cochran's Mill Road, Ford City, PA 16226.
Township of Cadogan | Township Office, 333 1st Avenue, Cadogan, PA 16212.
Township of Cowanshannock | Cowanshannock Township Municipal Building, 4033 Second Street, NuMine, PA 16244.
Township of East Franklin | East Franklin Township Municipal Building 106 Cherry Orchard Avenue, Kittanning, PA 16201.
Township of Gilpin | Gilpin Township Municipal Building, 589 State Route 66, Leechburg, PA 15656.
Township of Hovey | Hovey Township Building, 600 North Riverview Drive, Parker, PA 16049.
Township of Kiskiminetas | Kiskiminetas Township Building, 1222A Old State Road, Apollo, PA 15613.
Township of Kittanning | Township Municipal Building, 395 Township Shed Road, Kittanning, PA 16201.
Township of Madison | Madison Township Building, 107 Lawsonham Road, Templeton, PA 16259.
Township of Mahoning | Mahoning Township Office, 2237 Madison Road, Distant, PA 16223.
Township of Manor | Manor Township Municipal Building, 306 Byron Street, McGrann, PA 16236.
Township of North Buffalo | North Buffalo Township Municipal Building, 149 McHaddon Road, Kittanning, PA 16201.
Township of Parks | Parks Township Community Building, 26 Jackson Street, North Vandergrift, PA 15690.
Township of Perry | Perry Township Building, 758 Queenstown Road, Karns City, PA 16041.
Township of Pine | Pine Township Building, 115 Fifth Street, Templeton, PA 16259.
Township of Plumcreek | Plumcreek Township Building, 849 State Route 210, Shellocta, PA 15774.
Township of Rayburn | Rayburn Township Building, 105 McGregor Road, Kittanning, PA 16201.
Township of Redbank | Redbank Township Office Building, 135 Sugar Valley Road, Mayport, PA 16240.
Township of South Bend | South Bend Township Municipal Building, 219 Girty Road, Spring Church, PA 15686.
Township of South Buffalo | South Buffalo Township Municipal Building, 384 Iron Bridge Road, Freeport, PA 16229.
Township of Sugarcreek | Sugarcreek Township Municipal Building, 1807 State Route 268, East Brady, PA 16028.
Township of Valley | Valley Township Municipal Building, 321 Harris Road, Kittanning, PA 16201.
Township of Washington | Washington Township Office Building, 357 Adrian Sherrett Road, Adrian, PA 16210.
Township of Wayne | Wayne Township Building, 1381 State Route 1018, Dayton, PA 16222.
Township of West Franklin | West Franklin Township Municipal Building, 1473 Butler Road, Worthington, PA 16262.
Aransas County, Texas, and Incorporated Areas
Maps Available for Inspection Online at: http://www.fema.gov/preliminaryfloodhazarddata
City of Aransas Pass | City Hall, 600 West Cleveland Boulevard, Aransas Pass, TX 78336.
City of Port Aransas | City Hall, 710 West Avenue A, Port Aransas, TX 78373.
City of Rockport | Public Works Service Center, 2751 State Highway 35 Bypass, Rockport, TX 78382.
Town of Fulton | Town Hall, 209 North 7th Street, Fulton, TX 78358.
Unincorporated Areas of Aransas County | Aransas County Environmental Health Department, 870 Airport Road, Rockport, TX 78382.

[FR Doc. 2014-25977 Filed 10-31-14; 8:45 am]

BILLING CODE 9110-12-P